COMMITTEE FOR THE IMPLEMENTATION OF TEXTILE AGREEMENTS

Request for Public Comments on a Request That the United States Consult With Mexico and Canada Concerning a Certain Filament Viscose Rayon Yarn

February 24, 2000.

AGENCY: Committee for the Implementation of Textile Agreements (CITA).

ACTION: Request for public comments concerning a request for consultations on a certain filament viscose rayon yarn.

FOR FURTHER INFORMATION CONTACT: Lori E. Mennitt, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

The purpose of this notice is to advise the public that CITA has been petitioned to initiate consultations with Mexico and Canada under Section 7(2) of Annex 300-B of the North American Free Trade Agreement (NAFTA) for the purpose of amending the NAFTA rules of origin in Chapters 51 through 63 to permit the use of non-North American filament viscose rayon yarn classified in HTS headings 5403.10, 5403.31, 5403.32 and 5403.41 of the Harmonized Tariff Schedule of the United States in NAFTA originating goods.

There will be a 30-day comment period beginning on March 1, 2000 and extending through March 31, 2000. Anyone wishing to comment or provide data or information regarding domestic production or availability of filament viscose rayon yarn classified in HTS headings 5403.10, 5403.31, 5403.32 and 5403.41 is invited to submit 10 copies of such comments or information to Troy H. Cribb, Chairman, Committee for the Implementation of Textile Agreements, U.S. Department of Commerce, Washington, DC 20230.

Comments or information submitted in response to this notice will be available for public inspection in the Office of Textiles and Apparel, room H3100, U.S. Department of Commerce, 14th and Constitution Avenue, NW, Washington, DC.

The solicitation of comments is not a waiver in any respect of the exemption contained in 5 U.S.C. 553(a)(1) relating to matters which constitute a “foreign affairs function of the United States.”

D. Michael Hutchinson,
Acting Chairman, Committee for the Implementation of Textile Agreements.

[FR Doc. 00-4871 Filed 2-29-00; 8:45 am]

BILLING CODE 3510-DR-F